DEPARTMENT OF STATE

[Public Notice 5257]

Bureau of International Security and Nonproliferation; Imposition of Nonproliferation Measures Against Foreign Entities, Including a Ban on U.S. Government Procurement, and Removal of Penalties From One Entity

AGENCY: Department of State.

ACTION: Notice.

SUMMARY: A determination has been made that nine entities have engaged in activities that require the imposition of measures pursuant to section 3 of the Iran Nonproliferation Act of 2000, which provides for penalties on entities for the transfer to Iran since January 1, 1999, of equipment and technology controlled under multilateral export control lists (Missile Technology Control Regime, Australia Group, Chemical Weapons Convention, Nuclear Suppliers Group, Wassenaar Arrangement) or otherwise having the potential to make a material contribution to the development of weapons of mass destruction (WMD) or cruise or ballistic missile systems. The latter category includes (a) items of the same kind as those on multilateral lists, but falling below the control list parameters, when it is determined that such items have the potential of making a material contribution to WMD or cruise or ballistic missile systems, (b) other items with the potential of making such a material contribution, when added through case-by-case decisions, and (c) items on U.S. national control lists for WMD/missile reasons that are not on multilateral lists. It was also determined that sanctions imposed on an Indian entity, effective September 23, 2004 (69 FR 4845) are rescinded.

EFFECTIVE DATE: December 23, 2005.

FOR FURTHER INFORMATION CONTACT: On general issues: Vann H. Van Diepen, Office of Missile Threat Reduction, Bureau of International Security and Nonproliferation, Department of State (202-647-1142). On U.S. Government procurement ban issues: Gladys Gines, Office of the Procurement Executive, Department of State (703-516-1691).

SUPPLEMENTARY INFORMATION: Pursuant to section 4 of the Iran Nonproliferation Act of 2000 (Pub. L. 106-178), the U.S. Government determined on November 15, 2005 that the sanctions imposed effective September 23, 2004 (69 FR 4845), on the Indian entity Dr. C. Surendar, are rescinded.

Pursuant to sections 2 and 3 of the Act, the U.S. Government also determined that the measures authorized in section 3 of the Act shall apply to the following foreign entities identified in the report submitted pursuant to section 2(a) of the Act:

China Aero-Technology Import and Export Corporation. (CATIC) (China) and any successor, sub-unit, or subsidiary thereof;

China North Industries Corporation (NORINCO) (China) and any successor, sub-unit, or subsidiary thereof;

Hongdu Aviation Industry Group (HAIG) (China) and any successor, sub-unit, or subsidiary thereof;

LIMMT Metallurgy and Minerals Company Ltd. (China) and any successor, sub-unit, or subsidiary thereof;

Ounion (Asia) International Economic and Technical Cooperation Ltd. (China) and any successor, sub-unit, or subsidiary thereof;

Sabero Organic Chemicals Gujarat Ltd. (India) and any successor, sub-unit, or subsidiary thereof;

Sandhya Organic Chemicals PVT Ltd. (India) and any successor, sub-unit, or subsidiary thereof;

Steyr-Manlicher Gmbh (Austria) and any successor, sub-unit, or subsidiary thereof; and

Zibo Chemet Equipment Company (China) and any successor, sub-unit, or subsidiary thereof.

Accordingly, pursuant to the provisions of the Act, the following measures are imposed on these entities:

1. No department or agency of the United States Government may procure, or enter into any contract for the procurement of, any goods, technology, or services from these foreign persons;

2. No department or agency of the United States Government may provide any assistance to the foreign persons, and these persons shall not be eligible to participate in any assistance program of the United States Government;

3. No United States Government sales to the foreign persons of any item on the United States Munitions List (as in effect on August 8, 1995) are permitted, and all sales to these persons of any defense articles, defense services, or design and construction services under the Arms Export Control Act are terminated; and,

4. No new individual licenses shall be granted for the transfer to these foreign persons of items the export of which is controlled under the Export Administration Act of 1979 or the Export Administration Regulations, and any existing such licenses are suspended.

These measures shall be implemented by the responsible departments and agencies of the United States Government and will remain in place for two years from the effective date, except to the extent that the Secretary of State or Deputy Secretary of State may subsequently determine otherwise. A new determination will be made in the event that circumstances change in such a manner as to warrant a change in the duration of sanctions.

Dated: December 21, 2005.
Stephen G. Rademaker,
Acting Assistant Secretary of State for International Security and Nonproliferation, Department of State.

[FR Doc. E5-8116 Filed 12-29-05; 8:45 am]

BILLING CODE 4710-27-P